DEPARTMENT OF THE INTERIOR

Bureau of Land Management

[LLNVS00560 L58530000.EU0000 241A; N-81926 et al.; 10-08807; MO#4500012627; TAS: 14X5232]

Notice of amendment to Notice of Realty Action: Competitive Online Auction of Public Lands in Clark County, NV

AGENCY: Bureau of Land Management, Interior.

ACTION: Notice of amendment.

SUMMARY: This notice amends a Notice of Realty Action (NORA) published in the Federal Register on Friday, September 11, 2009 (74 FR 46790), to add additional terms and conditions to the sale process.

DATES: Interested parties may submit written comments until July 6, 2010. The sale opening date for re-offering the 5 parcels will be determined after the close of the 45-day comment period. Articles printed in the local newspaper and advertisements on local radio and television stations will notify the public of the specific sale opening date. Sale information may also be found on the Bureau of Land Management (BLM) Web site: https://www.blm.gov/nv/st/en/snplma/Land_Auction.html and on the following General Services Administration (GSA) Web site: www.auctionrp.com.

FOR FURTHER INFORMATION CONTACT: Manuela Johnson at (702) 515-5224 or e-mail: manuela_johnson@nv.blm.gov.

SUPPLEMENTARY INFORMATION: The parcels being re-offered for sale are parcels that did not sell during the BLM Internet auction conducted November 18 through December 21, 2009. The five parcels to be offered for sale are identified by the following case file numbers: N-78190, N-81926, N-81927, N-81930, and N-86661. Information on each parcel can be found on the BLM and the GSA Web sites when the opening date for the sale is established. The sale by competitive online auction will be conducted by the GSA. Bidders may register on the GSA Web site, https://www.auctionrp.com/.

The NORA published on September 11, 2009, is amended to include the following bidder registration requirements and sale terms and conditions: All registered bidders must submit a bid guarantee in the amount of $10,000 for each parcel on which the bidder plans to submit a bid. The guarantee must be by certified check, bank draft, postal money order, or cashier's check made payable in U.S. dollars. The bid guarantee will be applied towards the required 20 percent bid deposit of the successful high bidder. Following the auction, all bid guarantees will be returned to the unsuccessful bidders. If a bidder purchases one or more parcels and defaults on any single parcel, the default may be against all of that bidder's parcels. The BLM may retain the $10,000 bid guarantee for each parcel and the sale of all parcels to that bidder may be cancelled. If a high bidder fails to submit the 20 percent deposit and defaults on a parcel, the second highest bidder will become the apparent high bidder. If the high bidder is unable to consummate the transaction for any other reasons, the second-highest bid may be considered for award. All other aspects of the September 11, 2009 notice are correct as published.

Beth Ransel,
Assistant Field Manager, Division of Lands.

Authority: 43 CFR 2711.

[FR Doc. 2010-12165 Filed 5-19-10; 8:45 am]

BILLING CODE 4310-HC-P